DEPARTMENT OF JUSTICE

Notice of Lodging of Consent Decree Pursuant to the Comprehensive Environmental Response, Compensation, and Liability Act

Pursuant to section 122(d)(2) of the Comprehensive Environmental Response, Compensation, and Liability Act (“CERCLA”), 42 U.S.C. 9622(d)(2), and 28 CFR 50.7, notice is hereby given that a proposed consent decree embodying a settlement in United States v. Akzo Nobel Chemicals, Inc. and CK Video Corporation, Civil Action No. 00-0908-RV-M, was lodged on October 10, 2000, with the United States District Court for the Southern District of Alabama.

The United States seeks reimbursement of response costs incurred by the United States Environmental Protection Agency (“EPA”), pursuant to section 107 of CERCLA, 42 U.S.C. 9607, in response to releases of hazardous substances at the Stauffer Chem (LeMoyne Plant) Superfund Site (the “Site”), which is located near Mobile, Alabama.

Under the proposed consent decree, the Settling Parties, Akzo Nobel Chemical, Inc. and CK Witco Corporation have agreed to address groundwater and subsurface soil contamination on Site in the area designated by EPA as the Operable Unit #2 (“OU #2”). The remedial action selected from EPA's Record of Decision of OU #2 will be the construction, operation, and maintenance of an in-situ soil flushing system, which will operate in tandum with an existing groundwater treatment system, OU #1. OU #2 will significantly expand the range of groundwater and soil remediation of OU #1 by extending the treated areas of the Site reached by the treatment system and enhancing the capture, acceleration of the migration, and removal of contaminants. Monitoring and reporting of the subsurface soil for cyanide and thiocyanate will continue throughout the affected areas on an annual basis to determine if contaminants are moving into the groundwater in a controlled manner and are affectively being captured and treated by the total groundwater treatment system. The Settling Parties also agree to reimburse the Agency for 100% of past and future response and oversight costs.

The Department will receive, for a period of thirty (30) days from the date of this publication, comments relating to the propose consent decree. Comments should be addressed to the Assistant Attorney General for the Environment and Natural Resources Division, U.S. Department of Justice, Box 7611, Washington, DC 20044-7611, and should refer to United States v. Akzo Nobel Chemicals, Inc. and CK Witco Corporation, DOJ Ref. #90-11-2-912/1.

The proposed consent decree may be examined at the EPA Region 4 Superfund Records Center, 61 Forsyth Street, 11th Floor, SW, Atlanta, Georgia 30303-8960, and at the Office of the United States Attorney for the Southern District of Alabama, 169 Dauphin Street, Suite 200, Mobile, Alabama 36602. A copy of the proposed consent decree may be also be obtained by mail from the Department of Justice Consent Decree Library, Box 7611, Washington, DC 20044-7611. In requesting a copy, please refer to the referenced case and enclosed a check in the amount of $34.50 (25 cents per page reproduction costs) payable to the Consent Decree Library. A copy of the decree, exclusive of the parties' signature pages and attachments, may be obtained for $10.00.

Bruce Gelber,
Chief, Environmental Enforcement Section, Environmental and Natural Resources Division.

[FR Doc. 00-28539 Filed 11-6-00; 8:45 am]

BILLING CODE 4410-15-M